DEPARTMENT OF COMMERCE

International Trade Administration

[A-533-819, A-557-810, A-570-859]

Notice of Postponement of Preliminary Antidumping Duty Determinations: Steel Wire Rope From India, Malaysia, and the People's Republic of China

AGENCY: Import Administration, International Trade Administration, Department of Commerce.

EFFECTIVE DATE: July 20, 2000.

FOR FURTHER INFORMATION CONTACT: James Kemp, Office V, AD/CVD Enforcement, Group II, Import Administration, International Trade Administration, U.S. Department of Commerce, 14th Street and Constitution Avenue NW, Washington, DC 20230; telephone (202) 482-1276.

Postponement of Preliminary Determinations

The Department of Commerce (the Department) is postponing the preliminary determinations in the antidumping duty investigations of steel wire rope from India, Malaysia, and the People's Republic of China (PRC).

On March 17, 2000, the Department initiated antidumping investigation of steel wire rope from India, Malaysia, the PRC, and Thailand.¹ See Initiation of Antidumping Duty Investigations: Steel Wire Rope from India, Malaysia, the People's Republic of China, and Thailand, 65 FR 16173 (March 27, 2000). The notice stated that the Department would issue its prelimiary determinations no later than 140 days after the date of initiation (i.e., August 4, 2000).

¹ The International Trade Commission issued a negative preliminary determination in the case involving Thailand, on April 20, 2000. Therefore, that case was terminated.

On July 7, 2000, pursuant to section 733(c)(1)(A) of the Tariff Act of 1930, as amended, the Committee of Domestic Steel Wire Rope and Specialty Cable Manufacturers (the petitioners) requested that the Department postpone the issuance of the preliminary determinations in these investigations. The petitioners' request for postponement was timely, and the Department finds no compelling reason to deny the request. Therefore, we are postponing the deadline for issuing these determinations until September 25, 2000.

This extension is in accordance with section 733(c) of the Act and 19 CFR 351.205(b)(2).

Dated: July 13, 2000.
Troy H. Cribb,
Acting Assistant Secretary for Import Administration.

[FR Doc. 00-18413 Filed 7-19-00; 8:45 am]

BILLING CODE 3510-DS-M